ENVIRONMENTAL PROTECTION AGENCY

[FRL-8913-1]

NACEPT Subcommittee on Promoting Environmental Stewardship

AGENCY: Environmental Protection Agency (EPA).

ACTION: Notice of meeting.

SUMMARY: Under the Federal Advisory Committee Act, Public Law 92-463, EPA gives notice of a meeting of the NACEPT Subcommittee on Promoting Environmental Stewardship.

The purpose of the proposed Subcommittee on Promoting Environmental Stewardship (SPES) of the National Advisory Council for Environmental Policy and Technology (NACEPT) will be to advise the U.S. Environmental Protection Agency (EPA) on how to promote broad, organization-wide environmental stewardship practices in the regulated community and other sectors, as appropriate, in order to enhance human health and environmental protection. A copy of the meeting agenda will be posted at http://www.epa.gov/ocem/.

DATES: The NACEPT Subcommittee on Promoting Environmental Stewardship will hold an open meeting on June 30, 2009 (9 a.m.-5 p.m.) and July 1, 2009 (9 a.m.-4:30 p.m.) Eastern.

ADDRESSES: The meeting will be held at the EPA Office of Pesticide Programs, One Potomac Yard Conference Center (1st Floor), 2777 S. Crystal Dr., Arlington, VA 22202. The meeting is open to the public, with limited seating on a first-come, first-served basis.

FOR FURTHER INFORMATION CONTACT: Regina Langton, Designated Federal Officer, langton.regina@epa.gov, 202-566-2178, U.S. EPA Office of Policy, Economics, and Innovation (MC1807T), 1200 Pennsylvania Avenue, NW., Washington, DC 20460.

SUPPLEMENTARY INFORMATION: Requests to make brief oral comments or provide written statements to the SPES should be sent to Jennifer Peyser at (202) 965-6215 or jpeyser@RESOLV.org. All requests must be received no later than June 16, 2009.

Meeting Access: For information on access or services for individuals with disabilities, please contact Jennifer Peyser at (202) 965-6215 or jpeyser@RESOLV.org. To request accommodation of a disability, please contact Jennifer Peyser at least 10 days prior to the meeting to give EPA as much time as possible to process your request.

Dated: May 22, 2009.
Regina Langton,
Designated Federal Officer.

[FR Doc. E9-12794 Filed 6-1-09; 8:45 am]

BILLING CODE 6560-50-P